NUCLEAR REGULATORY COMMISSION

[NRC-2009-0323]

Standard Format and Content of License Applications for Mixed Oxide Fuel Fabrication Facilities

AGENCY: Nuclear Regulatory Commission.

ACTION: Regulatory guide; issuance.

SUMMARY: The U.S. Nuclear Regulatory Commission (NRC or Commission) is issuing a revision to regulatory guide (RG) 3.39, “Standard Format and Content of License Applications for Mixed Oxide Fuel Fabrication Facilities.” This guide endorses the standard format and content for license applications and integrated safety analysis (ISA) summaries described in the current version of NUREG-1718, “Standard Review Plan for the Review of an Application for a Mixed Oxide (MOX) Fuel Fabrication Facility,” as a method that the NRC staff finds acceptable for meeting the regulatory requirements of Title 10 of the Code of Federal Regulations (10 CFR) part 70, “Domestic Licensing of Special Nuclear Material” for mixed oxide fuel fabrication facilities.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory guide is available electronically under ADAMS Accession Number ML100280809. The regulatory analysis may be found in ADAMS under Accession Number ML111780401.

• Federal Rulemaking Web Site: Public comments and supporting materials related to this regulatory guide can be found at http://www.regulations.gov by searching on Docket ID NRC-2009-0323.

Regulatory guides are not copyrighted, and NRC approval is not required to reproduce them.

FOR FURTHER INFORMATION CONTACT: Sabrina Atack, Mixed Oxide and Uranium Deconversion Branch, Special Projects and Technical Support Directorate, Division of Fuel Cycle Safety and Safeguards, Office of Nuclear Material Safety and Safeguards, U.S. Nuclear Regulatory Commission, Washington, DC 20555-0001; telephone: 301-492-3204; or e-mail: Sabrina.Atack@nrc.gov.

SUPPLEMENTARY INFORMATION:

I. Introduction

The NRC is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 3.39 was issued with a temporary identification as Draft Regulatory Guide, DG-3038. This guide endorses the standard format and content for license applications and integrated safety analysis (ISA) summaries described in the current version of NUREG-1718, “Standard Review Plan for the Review of an Application for a Mixed Oxide (MOX) Fuel Fabrication Facility,” as a method that the NRC staff finds acceptable for meeting the regulatory requirements of Title 10 of the Code of Federal Regulations (10 CFR) part 70, “Domestic Licensing of Special Nuclear Material” for mixed oxide fuel fabrication facilities.

Subpart H of 10 CFR part 70, “Additional Requirements for Certain Licensees Authorized To Possess a Critical Mass of Special Nuclear Material,” identifies risk-informed performance requirements for mixed oxide fuel fabrication facilities. Subpart H requires applicants to establish and maintain a safety program that includes an integrated safety analysis (ISA), process safety information, and management measures and to submit a description of the safety program as part of the license application. Subpart H of 10 CFR part 70 also requires the applicant to submit an ISA summary to the NRC for approval.

This guide directs the reader to documentation regarding the type of information acceptable to the NRC staff for review of a license application and ISA summary for a mixed oxide fuel fabrication facility. Applicants may choose to submit information supporting the license application in the form of a safety analysis report (SAR), which may be a separate report submitted as part of the application or may be integrated into the license application. This documentation also provides guidance for acceptable format and content for licensing documents submitted as part of an application to construct, use, or possess special nuclear material or modify licensing commitments for a mixed oxide fuel fabrication facility.

II. Further Information

On July 24, 2009, DG-3038 was published in the Federal Register with a public comment period of 60 days from the issuance of the guide (74 FR 36780). The comment period closed on September 21, 2009. The staff's responses to the comments received are located in ADAMS under Accession Number ML100280863.

Dated at Rockville, Maryland this 13th day of October, 2011.
For the Nuclear Regulatory Commission.
Harriet Karagiannis,
Acting Chief, Regulatory Guide Development Branch, Division of Engineering, Office of Nuclear Regulatory Research.

[FR Doc. 2011-27343 Filed 10-20-11; 8:45 am]

BILLING CODE 7590-01-P